DEPARTMENT OF COMMERCE

National Oceanic and Atmospheric Administration

[I.D. 082201A]

Proposed Information Collection; Comment Request; Data Collection on Marine Protected and Managed Areas

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before October 26, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Dan Farrow, Special Projects Office, National Oceanic and Atmospheric Administration, SSMC4, 1305 East West Highway, Room 9515, Silver Spring, Maryland 20910, or via e-mail at Dan.Farrow@noaa.gov.

SUPPLEMENTARY INFORMATION:

I. Abstract

Executive Order 13158 directs the Department of Commerce and the Department of the Interior to work with partners to strengthen the protection of U.S. ocean and coastal resources by developing a national system of marine protected areas. The Departments of Commerce and the Interior plan to work closely with state, territorial, local, and tribal governments, as well as other stakeholders, to identify and inventory the Nation’s existing marine protected areas. Toward this end, the National Oceanic and Atmospheric Administration (NOAA) and the Department of the Interior (DOI) have created a dataform to be used as a survey tool to collect and analyze information on these existing sites. This survey will allow NOAA and DOI to better understand the existing protections for marine resources within marine protected areas in the United States. This information would also support activities on marine protected areas by state and local governments, tribes, and other interested parties.

II. Method of Collection

NOAA and DOI propose to use a dataform as a survey tool to collect comprehensive information about state, local, and tribal marine managed areas. The survey tool is already being used to collect information about existing Federal sites. The collected information will be used to inventory the existing marine protected areas in the United States and its territories and to support the development of a nationwide network that will aid in the management and conservation of our Nation’s marine resources.

The survey contains directed questions regarding the location, management and enforcement authorities, types of protections and restrictions, and the length of time those protections or restrictions are in place for each marine protected area. Basic information about the resources and activities at the sites will also be collected. It is expected that site managers from each marine protected area will fill out the survey. The collected information will be housed in a searchable database that will be made available to the public via the marine protected area website at mpa.gov.

The survey tool will be available in several formats to accommodate user needs. The primary collection tool will be available for download from the Internet, which allows users to enter data on their computer desktop at their own pace. This tool contains extensive embedded help and glossary files, as well as required Paperwork Reduction Act information. Users can complete the form in whole or in part by importing information already existing in their own spreadsheets or databases directly into the survey tool using provided templates. They can fill in additional information as necessary. Additionally, the survey will be made available via the web and in hard-copy.

III. Data

OMB Number: None.

Form Number: None.

Type of Review: Regular submission.

Affected Public: State, local, or tribal government.

Estimated Number of Respondents: 1,000.

Estimated Time Per Response: 5 hours.

Estimated Total Annual Burden Hours: 5,000.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 21, 2001.
Madeleine Clayton,
Departmental Paperwork Clearance Officer, Office of the Chief Information Officer.

[FR Doc. 01-21597 Filed 8-24-01; 8:45 am]

BILLING CODE 3510-08-S